DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Value of Puerto Rico's Coral Reef Ecosystems for Recreation/Tourism Uses.

OMB Control Number: 0648-xxxx.

Form Number(s): None.

Type of Request: Regular (request for a new information collection).

Number of Respondents: 4,600.

Average Hours per Response: Resident interviews, 1 hour; visitor screening surveys, 5 minutes; visitor interviews, 35 minutes, expenditure mail-back surveys for residents and visitors, 20 minutes.

Burden Hours: 2,550.

Needs and Uses: This request is for a new information collection.

NOAA and the U.S. Environmental Protection Agency (EPA) have entered a partnership to estimate the market and non-market economic values of Puerto Rico's coral reef ecosystems. Estimates will be made for all ecosystem services for the Guanica Bay Watershed and for recreation-tourism for all of Puerto Rico's coral reef ecosystems.

We will conduct surveys of visitors to Puerto Rico and residents of Puerto Rico who use the coral reef ecosystems to estimate the amount and type of use, their spending while undertaking coral reef use activities, the economic value of reef attributes (e.g. water clarity/visibility, coral abundance and diversity, fish and invertebrate abundance and diversity, and opportunity to see large wildlife) and how economic value changes with changes in reef attributes.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 28, 2014.
Glenna Mickelson,
Management Analyst, Office of the Chief Information Officer.

[FR Doc. 2014-28469 Filed 12-3-14; 8:45 am]

BILLING CODE 3510-NK-P